DEPARTMENT OF TRANSPORTATION

Federal Aviation Administration

14 CFR Part 71

[Docket No. FAA-2023-0763; Airspace Docket No. 22-ANM-81]

RIN 2120-AA66

Modification of Class E Airspace; Burley Municipal Airport, Burley, ID

AGENCY: Federal Aviation Administration (FAA), DOT.

ACTION: Final rule.

SUMMARY: This action modifies Class E airspace designated as a surface area, modifies Class E airspace extending upward from at least 700 feet above the surface, and modifies Class E airspace extending upwards from 1,200 feet above the surface at Burley Municipal Airport, Burley, ID. Additionally, this action makes administrative amendments to update the airport's existing Class E airspace legal descriptions. These actions support the safety and management of instrument flight rules (IFR) operations at the airport.

DATES: Effective date 0901 UTC, November 30, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Burley Municipal Airport, Burley, ID.

History

The FAA published a notice of proposed rulemaking for Docket No. FAA-2023-0763 in the Federal Register (88 FR 29569; May 8, 2023), proposing to modify Class E airspace at Burley Municipal Airport, Burley, ID. Interested parties were invited to participate in this rulemaking effort by submitting written comments on the proposal to the FAA. No comments were received.

Differences From the NPRM

Subsequent to the publication of the NPRM, the FAA discovered that the proposed legal description for Burley's Class E airspace designated as a surface area required editing to better align with the intended airspace design, as well as to better match the Airspace Class definition. The legal description titled “ANM ID E2 Burley, ID [Amended]” (88 FR 29571; May 8, 2023) has been revised in this final rule to read: “That airspace extending upward from the surface within a 5-mile radius of Burley Municipal Airport, and that airspace extending upward from the surface between a 5-mile radius to a 7-mile radius southwest of the airport, from the 208° bearing clockwise to the 274° bearing from the airport.”

Additionally, the FAA discovered that the proposed legal description for Burley's Class E airspace extending upward from 700 feet or more above the surface required editing to better align with adjacent airspace and to correct geographical coordinates. The legal description titled “ANM ID E5 Burley, ID [Amended]” (88 FR 29571; May 8, 2023) has been revised in this final rule to read: “That airspace extending upward from 700 feet above the surface within a 5.6-mile radius of the airport, and within a 6.5-mile radius of the airport between the 274° bearing clockwise to the 074° bearing, and within a 7-mile radius of the airport, from the 208° bearing clockwise to the 274° bearing; That airspace extending upward from 1,200 feet above the surface beginning at lat. 42°36′45′′ N, long. 114°14′48′′ W; to lat. 43°0′1′′ N, long. 114°2′9′′ W; to lat. 42°59′59′′ N, long. 112°59′57′′ W; to lat. 42°29′59′′ N, long. 113°0′0′′ W; to lat. 42°4′13′′ N, long. 114°30′42′′ W; lat. 42°36′20′′ N, long. 114°14′35′′ W; lat. 42°36′27′′ N, long. 114°14′55′′ W, thence to the point of beginning.”

None of these edits make substantive changes to the airspace volumes the FAA proposed.

Incorporation by Reference

Class E2 and E5 airspaces areas are published in paragraphs 6002 and 6005, respectively, of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by modifying the Class E airspace designated as a surface area, modifying the Class E airspace extending upward from 700 feet or more above the surface, and modifying the administrative portions of the Class E airspace legal descriptions at Burley Municipal Airport, Burley, ID.

The Class E airspace designated as a surface area is oversized for the purpose of containing instrument flight procedures. The extensions to the northwest clockwise through the southeast are no longer needed and are removed. The central area is expanded to be within a 5-mile radius of the airport, with a southwest portion extending to the airport's 7-mile radius between the airport's 208° bearing clockwise to the 274° bearing to more appropriately contain IFR arrival operations while between the surface and 1,000 feet above the surface, and IFR departure operations while between the surface and the base of adjacent controlled airspace.

The existing Class E airspace extending upward from 700 feet above the surface is greatly reduced to more appropriately contain arriving IFR operations below 1,500 feet above the surface and departing IFR operations until they reach the next adjacent airspace. The west-to-northeast portion of the airspace is reduced to be within a 6.5-mile radius of the airport, from the airport's 274° bearing clockwise to the 074° bearing. The southeast portion of the airspace is reduced to be within a 5.6-mile radius of the airport, from the airport's 074° bearing clockwise to the 208° bearing. Lastly, the southwest portion of the airspace had been expanded to be within a 7-mile radius of the airport, from the airport's 208° bearing clockwise to the 274° bearing.

Finally, the FAA modified the administrative portions of Burley's Class E airspace legal descriptions. The Burley very high frequency omni-directional range/tactical air navigation (VORTAC) navigational aid (NAVAID) is no longer needed to describe the airspace at Burley and should be removed.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6002 Class E Airspace Areas Designated as a Surface Area.

* * * * *

ANM ID E2 Burley, ID [Amended]

Burley Municipal Airport, ID

(Lat. 42°32′33″ N, long. 113°46′18″ W)

That airspace extending upward from the surface within a 5-mile radius of the Burley Municipal Airport, and that airspace extending upward from the surface between a 5-mile radius to a 7-mile radius southwest of the airport, from the 208° bearing clockwise to the 274° bearing from the airport.

* * * * *

Paragraph 6005 Class E Airspace Areas Extending Upward From 700 Feet or More Above the Surface of the Earth.

* * * * *

ANM ID E5 Burley, ID [Amended]

Burley Municipal Airport, ID

(Lat. 42°32′33″ N, long. 113°46′18″ W)

That airspace extending upward from 700 feet above the surface within a 5.6-mile radius of the airport, and within a 6.5-mile radius of the airport between the 274° bearing clockwise to the 074° bearing, and within a 7-mile radius of the airport, from the 208° bearing clockwise to the 274° bearing; That airspace extending upward from 1,200 feet above the surface beginning at lat. 42°36′45″ N, long. 114°14′48″ W; to lat. 43°0′1″ N, long. 114°2′9″ W; to lat. 42°59′59″ N, long. 112°59′57″ W; to lat. 42°29′59″ N, long. 113°0′0″ W; to lat. 42°4′13″ N, long. 114°30′42″ W; lat. 42°36′20″ N, long. 114°14′35″ W; lat. 42°36′27″ N, long. 114°14′55″ W; thence to the point of beginning.

* * * * *

Issued in Des Moines, Washington, on September 6, 2023.
B.G. Chew,
Group Manager, Operations Support Group, Western Service Center.

[FR Doc. 2023-19597 Filed 9-14-23; 8:45 am]

BILLING CODE 4910-13-P